DEPARTMENT OF ENERGY

Federal Energy Regulatory Commission

[Docket No. AD23-5-000]

Roundtable on Environmental Justice and Equity in Infrastructure Permitting; Second Supplemental Notice of Roundtable

As announced in the Notice of Roundtable and Request for Panelists issued in this proceeding on January 27, 2023, the Federal Energy Regulatory Commission (Commission or FERC) will convene a Commissioner-led roundtable to discuss environmental justice and equity in its jurisdictional infrastructure permitting processes. The roundtable will be held on Wednesday, March 29, 2023, from 9:30 a.m. to 3:30 p.m. Eastern time, in the Commission Meeting Room at the Federal Energy Regulatory Commission, 888 First Street NE, Washington, DC 20426. The roundtable will be publicly webcasted.

The roundtable will be open for the public to attend both in-person and virtually. Registration is not required and there is no fee for attendance. In-person seating will be provided on a first-come, first-serve basis on the day of the event and overflow rooms will be available. A link to the public webcast will be available the day of the event on the Commission's website, www.ferc.gov. Written comments can be filed in Docket No. AD23-5-000 until May 15, 2023.

Attached to this Supplemental Notice is a revised agenda for this event with the confirmed panelists and potential discussion topics.

Simultaneous Spanish translation will be available for virtual attendees. The event will be recorded, and English and Spanish recordings will be posted within one day of the event. English and Spanish transcriptions will also be made available following the event at no charge.

Commission conferences are accessible under section 508 of the Rehabilitation Act of 1973. American Sign Language Interpretation will be provided for in-person attendees and the live stream will feature closed captioning. For additional accessibility accommodations, please send an email to accessibility@ferc.gov, call toll-free (866) 208-3372 (voice) or (202) 208-8659 (TTY), or send a fax to (202) 208-2106 with the required accommodations.

For more information about this roundtable, please contact EnvironmentalJusticeRoundtable@ferc.gov. For information related to logistics, please contact Sarah McKinley at sarah.mckinley@ferc.gov or (202) 502-8368.

Dated: March 14, 2023.
Debbie-Anne A. Reese,
Deputy Secretary.

[FR Doc. 2023-05608 Filed 3-17-23; 8:45 am]

BILLING CODE 6717-01-P